DEPARTMENT OF LABOR

Employment and Training Administration

[TA-W-50,948]

Tordenskjold Marine Mobile, Inc., Daphne, AL; Notice of Termination of Investigation

Pursuant to section 221 of the Trade Act of 1974, an investigation was initiated on February 24, 2003, in response to a worker petition filed by the State of Alabama Employment Service on behalf of workers at Tordenskjold Marine Mobile, Daphne, Alabama.

The Department has been unable to locate company officials of the subject firm or to obtain the information necessary to reach a determination on worker group eligibility. Consequently, further investigation in this case would serve no purpose, and the investigation has been terminated.

Signed in Washington, DC this 12th day of March 2003.
Richard Church,
Certifying Officer, Division of Trade Adjustment Assistance.

[FR Doc. 03-7207 Filed 3-25-03; 8:45 am]

BILLING CODE 4510-30-P